DEPARTMENT OF ENERGY

Federal Energy Regulatory Commission

Combined Notice of Filings

Take notice that the Commission has received the following Natural Gas Pipeline Rate and Refund Report filings:

Filings Instituting Proceedings

Docket Numbers: RP16-1204-000.

Applicants: MoGas Pipeline LLC.

Description: Section 4(d) Rate Filing: MoGas Annual Charge Adjustment to be effective 10/1/2016.

Filed Date: 8/31/16.

Accession Number: 20160831-5119.

Comments Due: 5 p.m. ET 9/12/16.

Docket Numbers: RP16-1205-000.

Applicants: Florida Gas Transmission Company, LLC.

Description: Section 4(d) Rate Filing: Fuel Filing on 8-31-16 to be effective 10/1/2016.

Filed Date: 8/31/16.

Accession Number: 20160831-5127.

Comments Due: 5 p.m. ET 9/12/16.

Docket Numbers: RP16-1206-000.

Applicants: Texas Eastern Transmission, LP.

Description: Compliance filing Gulf Markets Early In-service CP15-90 Compliance Filing to be effective10/1/2016.

Filed Date: 8/31/16.

Accession Number: 20160831-5135.

Comments Due: 5 p.m. ET 9/12/16.

Docket Numbers: RP16-1207-000.

Applicants: MarkWest Pioneer, L.L.C.

Description: Quarterly Fuel Adjustment Filing of MarkWest Pioneer, L.L.C. under RP16-1207.

Filed Date: 8/31/16.

Accession Number: 20160831-5149.

Comments Due: 5 p.m. ET 9/12/16.

Docket Numbers: RP16-1208-000.

Applicants: Texas Eastern Transmission, LP.

Description: Compliance filing 2016 Operational Entitlements Filing.

Filed Date: 8/31/16.

Accession Number: 20160831-5152.

Comments Due: 5 p.m. ET 9/12/16.

Docket Numbers: RP16-1209-000.

Applicants: Dominion Transmission, Inc.

Description: Section 4(d) Rate Filing: DTI—Monroe to Cornwell Project (CP15-7) Transport. Service & Negotiated Rate to be effective10/1/2016.

Filed Date: 8/31/16.

Accession Number: 20160831-5155.

Comments Due: 5 p.m. ET 9/12/16.

Docket Numbers: RP16-1210-000.

Applicants: WBI Energy Transmission, Inc.

Description: Section 4(d) Rate Filing: 2016 Semi-annual Fuel & Electric Power Reimbursement to be effective10/1/2016.

Filed Date: 8/31/16.

Accession Number: 20160831-5185.

Comments Due: 5 p.m. ET 9/12/16.

Docket Numbers: RP16-1211-000.

Applicants: El Paso Natural Gas Company, L.L.C.

Description: Section 4(d) Rate Filing: Negotiated Rate Agreement Update (APS Sept 2016) to be effective9/1/2016.

Filed Date: 8/31/16.

Accession Number: 20160831-5219.

Comments Due: 5 p.m. ET 9/12/16.

Docket Numbers: RP16-1212-000.

Applicants: Kern River Gas Transmission Company.

Description: Section 4(d) Rate Filing: 2016 September Negotiated Rates to be effective 9/1/2016.

Filed Date: 8/31/16.

Accession Number: 20160831-5220.

Comments Due: 5 p.m. ET 9/12/16.

Docket Numbers: RP16-1213-000.

Applicants: Colorado Interstate Gas Company, L.L.C.

Description: Operational Purchase and Sales Report of Colorado Interstate Gas Company, L.L.C. under RP16-1213.

Filed Date: 8/31/16.

Accession Number: 20160831-5238.

Comments Due: 5 p.m. ET 9/12/16.

Docket Numbers: RP16-1214-000.

Applicants: Gulf South Pipeline Company, LP.

Description: Section 4(d) Rate Filing: Cap Rel Neg Rate Agmt (Petrohawk 41455 to Texla 47028) to be effective9/1/2016.

Filed Date: 8/31/16.

Accession Number: 20160831-5246.

Comments Due: 5 p.m. ET 9/12/16.

Docket Numbers: RP16-1215-000.

Applicants: Colorado Interstate Gas Company, L.L.C.

Description: Section 4(d) Rate Filing: FL&U Update to be effective 10/1/2016.

Filed Date: 8/31/16.

Accession Number: 20160831-5265.

Comments Due: 5 p.m. ET 9/12/16.

Docket Numbers: RP16-1216-000.

Applicants: Rockies Express Pipeline LLC.

Description: Section 4(d) Rate Filing: Neg Rate 2016-08-31 CP to be effective 9/1/2016.

Filed Date: 8/31/16.

Accession Number: 20160831-5304.

Comments Due: 5 p.m. ET 9/12/16.

Docket Numbers: RP16-1217-000.

Applicants: Equitrans, L.P.

Description: Section 4(d) Rate Filing: Allocation, Expansion, and Reservation of Capacity to be effective 10/1/2016.

Filed Date: 8/31/16.

Accession Number: 20160831-5352.

Comments Due: 5 p.m. ET 9/12/16.

Docket Numbers: RP16-1218-000.

Applicants: Colorado Interstate Gas Company, L.L.C.

Description: Section 4(d) Rate Filing: Update to Non Conforming Agreements Filing to be effective 10/1/2016.

Filed Date: 8/31/16.

Accession Number: 20160831-5359.

Comments Due: 5 p.m. ET 9/12/16.

Docket Numbers: RP16-1219-000.

Applicants: Texas Gas Transmission, LLC.

Description: Section 4(d) Rate Filing: Interactive Auctions for Cost-Based Storage Capacity to be effective10/1/2016.

Filed Date: 9/1/16.

Accession Number: 20160901-5035.

Comments Due: 5 p.m. ET 9/13/16.

Docket Numbers: RP16-1220-000.

Applicants: Equitrans, L.P.

Description: Section 4(d) Rate Filing: Negotiated Capacity Release Agreements—9/1/2016 to be effective9/1/2016.

Filed Date: 9/1/16.

Accession Number: 20160901-5046.

Comments Due: 5 p.m. ET 9/13/16.

Docket Numbers: RP16-1221-000.

Applicants: Dominion Carolina Gas Transmission, LLC.

Description: Compliance filing DCGT—2016 Penalty Revenue Crediting Report.

Filed Date: 9/1/16.

Accession Number: 20160901-5048.

Comments Due: 5 p.m. ET 9/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2016.
Nathaniel J. Davis, Sr.,
Deputy Secretary.

[FR Doc. 2016-21535 Filed 9-7-16; 8:45 am]

BILLING CODE 6717-01-P